DEPARTMENT OF LABOR

Employment and Training Administration

Grants for Intermediaries; SGA/DFA 03-104

AGENCY: Employment and Training Administration, Department of Labor.

ACTION: Notice of availability of funds and solicitation for grant applications (SGA). This notice contains all of the necessary information and forms needed to apply for grant funding.

SUMMARY: The U.S. Department of Labor (DOL), Employment and Training Administration (ETA), announces the availability of $3.5 million to award grants to eligible intermediary organizations. Under this 2003 competition, eligible “intermediaries” are defined as those non-profit, community, and/or faith-based organizations with established connections and working relationships to grassroots faith-based and community organizations with the ability to connect those smaller organizations and the people they serve to the local One-Stop delivery system.

In achieving the grant purposes, the intermediary is expected to sub-grant a substantial portion of its award to eligible local grass-roots organizations. In their collaboration, the intermediaries will achieve the following objectives:

• Organize collaboration between sub-grantees and workforce boards to address a well-defined unmet community need by leveraging the resources of both faith-based and community organizations and the One-Stop Career Center system. The faith-based and community organizations resources may include, but are not limited to, services such as mentoring, soft skills training, transportation, childcare, or use of space and volunteer hours. “Soft skills” commonly refers to skills and characteristics that allow individuals to succeed in the workplace, such as a strong work ethic, an ability to work in teams, self-discipline, self-confidence, punctuality and courtesy.

• Increase the number of faith-based and community-based organizations serving as committed and active partners in the One-Stop delivery system.

• Establish methods and mechanisms to ensure sustainability of these partnerships and participation levels beyond the life of the grant.

• Expand the access of faith-based and community-based organizations' clients and customers to the training, job and career services offered by the local One-Stops.

• Tthoroughly document the impact and outcomes of these grant investments through quarterly and annual reporting.

DATES: Applications will be accepted commencing on April 4, 2003. The closing date for receipt of applications under this announcement is May 5, 2003. Applications must be received by 4 p.m. (ET) at the address below: No exceptions to the mailing and hand-delivery conditions set forth in this notice will be granted. Applications that do not meet the conditions set forth in this notice will not be honored. Telefacsimile (FAX) applications will not be honored.

ADDRESSES: Applications must be mailed to: U.S. Department of Labor, Employment and Training Administration, Division of Federal Assistance, Attention: Denise Roach, SGA/DFA 03-104, 200 Constitution Avenue, NW., Room S-4203, Washington, DC 20210. Telefacsimile (FAX) applications will not be accepted. Applicants are advised that mail in the Washington area may be delayed due to mail decontamination procedures.

FOR FURTHER INFORMATION CONTACT: Denise Roach, Grants Management Specialist, Division of Federal Assistance, Telephone (202) 693-3301 (this is not a toll free-number). You must specifically ask for Denise Roach. Questions can also be faxed to Denise Roach, Telephone (202) 693-2879, please include the SGA/DFA 03-104, a contact name, fax and phone numbers. This announcement will be also published on the Employment and Training Administration (ETA) Web page at http://www.doleta.gov/usworkforce. This Web page will also provide responses to questions that are raised by applicants during the period of grant application preparation. Award notifications will also be announced on this Web page.

Part I. Delivery of Applications

1. Late Applications. Any application received after the exact date and time specified for receipt at the office designated in this notice will not be considered, unless it is received before awards are made and it:

• Was sent by U.S. Postal Service registered or certified mail not later than May 5, 2003 (e.g., an application submitted in response to a solicitation requiring receipt of applications by the 20th of the month must have been post marked by the 15th of the that month); or

• Was sent by U.S. Postal Service Express Mail Next Day Service, Post Office to addressee, not later than May 5, 2003 by 5 p.m. at the place of mailing two working days before to the deadline date specified for receipt of applications. The term “working days” excludes weekends and U.S. Federal holidays. “Post-marked” means a printed, stamped or otherwise placed impression (exclusive of a postage meter machine impression) that is readily identifiable, without further action, as having been supplied or affixed on the date of mailing by an employee of the U.S. Postal Service.

2. Withdrawal of Applications. Applications may be withdrawn by written notice or telegram (including mailgram) received at any time before an award is made. Applications may be withdrawn in person by the applicant or by an authorized representative thereof, if the representative's identity is made known and the representative signs a receipt for the proposal.

3. Hand Delivered Proposals. It is preferred that applications be mailed at least five days before to the closing date. To be considered for funding, hand-delivered applications must be received at the designated address by 4 p.m., (ET). All overnight mail will be considered to be hand delivered and must be received at the designated place by the specified closing date and time. Telegraphed, e-mailed and/or faxed proposals will not be honored. Failure to adhere to the above instructions will be a basis for determination of non-responsiveness.

Part II. Authorities

These grants are made under the following authorities:

• The Workforce Investment Act of 1998 (WIA or the Act) (Public Law 105-220, 29 U.S.C. 2801 et seq.)

• The WIA Final Rule, 20 CFR parts 652, 660-671 (65 FR 49294 (August 11, 2000));

• Executive Order 13198; “Rallying the Armies of Compassion''

• Training and Employment Guidance Letter 17-01 (“Incorporating and Utilizing Grassroots, Community-Based Organizations Including Faith-Based Organizations in Workforce Investment Activities and Programs”)

• Executive Order 13279; “Equal Protection of the Laws for Faith-Based and Community Organizations”

Part III. Background

The Workforce Investment Act of 1998 (WIA) established a comprehensive reform of existing Federal job training programs with amendments impacting service delivery under the Wagner-Peyser Act, Adult Education and Literacy Act, and the Rehabilitation Act. A number of other Federal programs are also identified as required partners in the One-Stop delivery system to provide comprehensive services for all Americans to access the information and resources available that can help in the achievement of their career goals. The intention of the One-Stop system is to establish a network of programs and providers in co-located and integrated settings that are accessible for individuals and businesses alike in approximately 600 workforce investment areas established throughout the nation. There are currently over 1,900 comprehensive Centers and over 1,600 affiliated Centers across the United States.

WIA established State and Local Workforce Investment Boards focused on strategic planning, policy development, and oversight of the workforce investment system, and accorded significant authority to the nation's Governors and local chief elected officials to further implement innovative and comprehensive delivery systems. The vision, goals and objectives for workforce development under the WIA decentralized system are fully described in the State strategic plan required under section 112 of the legislation. This State strategic workforce investment plan—and the operational experience gained by all the partners to date in implementing the WIA-instituted reforms—help identify the important “unmet needs” and latent opportunities to expand access to One-Stop by all the population segments within the local labor market.

Engagement of Faith-Based and Community Organizations Under the Workforce Investment Act

On January 29, 2001, President George W. Bush issued Executive Order 13198, creating the Office for Faith-Based and Community Initiatives in the White House and centers in the departments of Labor, Health and Human Services (HHS), Housing and Urban Development (HUD), Education (ED), Justice (DOJ). President Bush charged the Cabinet centers with identifying statutory, regulatory, and bureaucratic barriers that stand in the way of effective faith-based and community initiatives, and to ensure, consistent with the law, that these organizations have equal opportunity to compete for federal funding and other support.

In early 2002, the Department's Center for Faith-Based and Community Initiatives (CFBCI) and ETA developed and issued Solicitations for Grant Applications (SGAs) to engage intermediary and grass-roots organizations in our workforce system-building. These grants were designed to involve the faith-based and community-based organizations in service delivery, strengthen their existing partnership with the local One-Stop delivery system, while providing additional points of entry for customers into that system.

These 2002 grants embodied the Department's principal strategy for implementing the Executive Order by creating new avenues through which qualified organizations can more fully participate under the Workforce Investment Act while applying their particular strengths and assets in service provision to our customers. These grants also proceeded from an ETA-CFBCI mutual premise: that the involvement of community-based organizations and faith-based organizations can both complement and supplement the efforts of local workforce investment systems in providing universal access and serving the training-, job- and career-support needs of many of our citizens.

Both ETA and CFBCI are committed to bringing new Intermediary and grass-roots organizations to workforce system-building through the issuance of a new solicitation in 2003. This new solicitation draws on “lessons learned” in 2002 while introducing several “promising practices” introduced by other ETA grantees. While many Statement of Work elements in the 2002 solicitation have been preserved, the 2003 competition also sharply focuses on the ability of the Intermediary grantee and its sub-grantees to bridge the “gaps” in types of service provision and/or meeting the needs of historically hard-to-serve populations reached in the community (Note: While several of the Intermediary grantees in 2002 served multiple jurisdictions in various States, the 2003 competition focuses on the ability of the Intermediary to serve a single defined geographic area or contiguous geographic areas.) The new solicitation also places significant emphasis on performance outcomes—documenting and quantifying the additional value the Intermediary and its sub-grantees bring to the One-Stop delivery system in the community.

Through this competition, ETA seeks to ensure that an important Workforce Investment Act tenet—universal access to the programs and services offered under WIA—is further rooted in the customer-responsive delivery systems already established by the Governors, local elected officials and local Workforce Investment Boards. ETA also reaffirms its continuing commitment to those customer-focused reforms instituted by State and local governments which help Americans access the tools they need to manage their careers through information and high quality services, and to help U.S. companies find skilled workers.

Faith-based and community-based organizations present strong credentials for full partnership in our mutual system-building endeavors. Faith-based and community-based organizations are trusted institutions within our poorest neighborhoods. Faith-based and community-based organizations are home to a large number of volunteers who bring not only the transformational power of personal relationships to the provision of social service but also a sustained allegiance to the well-being and self-sufficiency of the participants they serve. Through their daily work and specific programs, these organizations strive to achieve some common purposes shared with government—reduction of welfare dependency, attainment of occupational skills, entry and retention of all our citizens in good-paying jobs. Through this solicitation, ETA and CFBCI strive to leverage these programs, resources and committed staff into the workforce investment strategies already embodied in State and local strategic plans.

Legal Rules That Apply to Faith-Based Organizations That Receive Government Funds

The government is prohibited from directly funding religious activity.* These grants may not be used for religious instruction, worship, prayer, proselytizing or other inherently religious practices. Neutral, secular criteria that neither favor nor disfavor religion must be employed in the selection of grant and sub-grant recipients. In addition, under the WIA and DOL regulations implementing the Workforce Investment Act, a recipient may not train a participant in religious activities, or permit participants to construct, operate, or maintain any part of a facility that is primarily used or devoted to religious instruction or worship. Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

* The term “direct” funding is used to describe funds that are provided “directly” by a governmental entity or an intermediate organization with the same duties as a governmental entity, as opposed to funds that an organization receives as the result of the genuine and independent private choice of a beneficiary. In other contexts, the term “direct” funding may be used to refer to those funds that an organization receives directly from the Federal government (also known as “discretionary” funding), as opposed to funding that it receives from a State or local government (also known as “indirect” or “block grant” funding). In this SGA, the term “direct” has the former meaning.

Part IV. Funding Availability and Period of Performance

ETA has identified $3.5 million from the FY 2002 appropriation for One-Stop/America's Labor Market Information System for achieving these objectives. The agency expects to award 7 to 12 grants. The grant amount for each intermediary organization is expected to range from $300,000 to $500,000. Final award amounts may be negotiated at the discretion of the grant officer. The period of performance is one year, beginning July 1, 2003 and ending on June 30, 2004.

Grant funds awarded through this competition are not intended to replace or supplant existing activities or resources that are currently offered (“maintenance of effort”), but to augment the range of services available in the community. Organizations, which have not previously partnered with the One-Stop delivery system are the specific target for these Federal investments.

Part V. Eligible Applicants

For purposes of this announcement, “intermediaries” are defined as those non-profit, community, and/or faith-based organizations with existing connections to grassroots faith-based and community organizations, and the demonstrated ability to connect those organizations to the local workforce investment system. These Intermediary organizations must possess strong financial and grant management skills, and the ability to mentor smaller organizations to increase their capacity to fully participate in One-Stop service delivery. (Note: Intermediary organizations that received grants in 2002 are not eligible to apply for these resources.) For the purposes of this grant, neither Workforce Investment Boards nor One-Stop operators qualify as intermediaries. The intermediary should issue sub-grants to non-profit grassroots organizations which:

1. Have social services as a major part of their mission;

2. Are headquartered in the local community to which they provide these services;

3. Have a total annual operating budget of $300,000 or less, or

4. Have 6 or fewer full-time equivalent employees.

Note: For purposes of this competition, local affiliates of national social service organizations are not considered “grassroots” and are not eligible for a sub-grant award.

Part VI. Government Requirements/Statement of Work

Applicants must submit one copy with an original signature and two additional copies of their proposal. The application must be double-spaced, and on single-sided, numbered pages. A font size of at least twelve (12) pitch is required throughout.

There are five required sections:

Section I—Application for Federal Assistance (SF 424A)

Section II—Budget Information (SF 424B)

Section III—Executive Summary

Section IV—Statement of Work

Section I—Application for Federal Assistance

The SF-424A is included in the announcement as Attachment A. It must be signed by the representative authorized by the governing body of the applicant to enter into grant agreement.

Section II—Budget Information

The SF-424B is included in the announcement as Attachment B.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Section III—Executive Summary

A one to two page “Executive Summary” reflecting the timeline and focusing on the outcomes to be achieved under this grant is also required. This Executive Summary does not count against the overall page limitation. The Executive Summary should include:

• The name of the local investment workforce area in the State proposed to be served through the activities of this grant. (If you plan to serve two or more contiguous areas, please identify in this Section.)

• Years of intermediary's service to the residents in this area.

• The “need to be addressed”—i.e., the services to be provided and populations to be served that may not fully be addressed by the local workforce investment system.

• Intermediary and sub-grantee projects and activities that address the defined needs with twelve-month timelines for their accomplishment.

• Summary of outcomes, benefits and value added by the project.

Section IV—Statement of Work (Not To Exceed 15 Pages Including Attachments)

The Statement of Work represents the applicant's plans to address the previously documented unmet need(s) in the community, including the opportunity to serve specific populations (e.g., ex-offenders, limited English-speaking, immigrants, displaced homemakers, homeless) and/or offer specific services critical to obtaining employment for disadvantaged populations (e.g., soft-skills training, pre- and post-job placement mentoring, translation services, job coaching). (This description should include coverage of population(s) to be served and the services to be provided. Populations could include ex-offenders, immigrants, limited English-speaking, homeless and individuals with disabilities. Services can include soft-skills training, pre- and post-job placement mentoring, translation services, and job coaching. Other populations and services can be identified.) The Department expects that the intermediary and its sub-grantees can complement, augment and supplement the services currently provided through the local One-Stop delivery system.

The intermediary will assist the sub-grantees, as appropriate, in administrative tasks so that maximum efforts can be focused on providing direct assistance to their service population(s). The Department expects the intermediary's staff to provide mentoring and technical assistance to build the smaller organizations' capacity to be a permanent contributor to the local One-Stop system as well as compete successfully for future governmental grants and private funding opportunities.

The Statement of Work will specifically include:

(1) Performance History with Grants Management and the One-Stop System.

(2) Description of the proposed plan and activities of the intermediary and its sub-grantees.

(3) Enumeration of evaluation criteria, measure(s), outcomes and reporting/tracking.

(4) Mechanisms for both intermediary and sub-grantees.

1. Performance History With Grants Management and the One-Stop System (15 points)

Each applicant must provide a statement of its performance history with the management of resources under governmental grants-in-aid programs, including:

• Relevant history of the applicant in managing resources through grant awards from Federal Departments (particularly those from the Departments of Labor, Justice, Education, Housing and Urban Development, and Health and Human Services), State governments, units of local governments or private foundations.

• Relevant history of the applicant in working with small organizations. (Note: Be sure to include past experience in developing technical assistance and developing other organizations' capacity for social service delivery, competing for grants, managing grants, conducting information campaigns.)

• Recent participation of the intermediary in the One-Stop Stop delivery system for employment and training services. Describe any current working relationship with the local Workforce Investment Board(s). If your organization did not previously work with a Local Board, please describe how the applicant worked with the Local Board in the development of this grant proposal.

The Department will evaluate this narrative based on the scope, strength, and “record of achievement.”

2. Description of the proposed plan and activities of the intermediary and its sub-grantees (50 points)

This section of the narrative provides the applicant's strategy for addressing the community's unmet workforce investment needs, and the prospects for strengthening the local One-Stop system through an expanded set of relationships with smaller grass-roots organizations. This section of the narrative should fully describe the specific needs in the community that the intermediary and grassroots organization partnerships will address. The proposal's narrative should:

• Describe the unmet service needs and conditions of unemployed or underemployed workers that the applicant will organize sub-grantees and other partners to address. The narrative should include how the applicant identified this need, including consultation with grassroots and faith-based and community organizations and the One-Stop delivery system;

• Document existing networks of faith-based and community groups, the organization's relationship with these networks, and plans for additional outreach to identify additional faith-based and community-based organizations. The emphasis should be on outreach to those groups that can help the grantee address the identified community need(s).

• Describe the methodology for awarding sub-grants. Describe how the applicant will organize the sub-grantees to address the community's need including what resources and services it will solicit from sub-grantees.

• Describe technical assistance the applicant will provide to potential sub-grantees before and after grant award. This should include activities to help FBOs/CBOs apply for sub-grant award.

• Describe the activities that have and will be undertaken to build the administrative capacity of the sub-grantees.

• Describe how the applicant and sub-grantees will use One-Stop system resources and collaborate with the local Workforce Investment Board to address the identified community issues.

• Submit a timeline for the tasks and activities beginning July 1.

The Department will evaluate the proposal against the following criteria:

• The activities associated with outreach and identification of grassroots organizations eligible for sub-grant awards appear appropriate, reasonable and achievable within the first months of the grant period.

• The defined set of inter-relationships among intermediary, grass-roots organizations and the local One-Stop delivery system during the life of the grant suggest that the grant objectives will be successfully met.

• The approaches and strategies for meeting the unmet workforce investment needs in the community appear appropriate, reasonable and achievable within the grant period.

3. Description of evaluation criteria, measure(s), outcomes and reporting/tracking mechanisms for both intermediary and sub-grantees (35 points) The narrative should specifically and carefully define how grant success will be determined by the intermediary and the Department. The review panels should be able to answer three key questions: What will be different once the project is complete? What value will be added to the local One-Stop delivery system? How will the “competitive” posture (i.e., capabilities to deliver services/act as partner) of the sub-grantees in the local One-Stop delivery system be enhanced? The narrative, therefore, should:

• Define the measurable outcomes and other goals for both the intermediary and its sub-grantees in executing the proposed tasks and activities. These outcomes include how many individuals will obtain and retain employment, or complete an educational certificate. Other goals may include how many individuals will receive job training, life-skills training or other services, which remove specific barriers to employment.

• Describe how the intermediary organization will track and report outcomes for those assisted under the sub-grants. Describe any formal agreement with the local One-Stop delivery system to track such outcomes or other mechanisms that have been established for this purpose.

• Define how the intermediary will determine its overall success in improving the posture of the sub-grantees in increasing their administrative capacity to remain active in local workforce development and compete for future funding opportunities.

The Department will evaluate the proposal against the following criteria:

• Are the goals and objectives, and the plans and procedures for achieving them, innovative, worthwhile, achievable and measurable?

• Are the methods and activities to achieve the objectives adequately described?

Note: These should be consistent with the timeline, and present the order and the date of completion (month or quarter) for the accomplishment of the intermediary's and sub-grantees' tasks.

• Is there evidence that the intermediary's technical assistance efforts will enhance the posture of the sub-grantees by increasing their administrative capacity and their ability to remain active in the local workforce development system and to compete for other funding opportunities?

Part VII. Reporting

Grantees will be required to submit quarterly financial and narrative progress reports. Financial reporting will be required quarterly using the on-line electronic reporting system for the Standard Form 269-Financial Status Report (FSR). A narrative progress report will be required quarterly.

Part VIII. Review Process and Evaluation Criteria

The technical review panel will make careful evaluation of applications against the rating criteria. The review panel recommendations are advisory. The ETA grant officer will fully consider the panel recommendations and take into account geographic balance to ensure the most advantageous award of these funds to accomplish the system-building purposes outlined in the Summary and Statement of Work. The grant officer may consider any information that comes to his or her attention. The grant officer reserves the right to award without negotiation.

Part IX. Resources for Applicant

The Department of Labor maintains a number of web-based resources that may be of assistance to applicants. The webpage for the Department's Center for Faith-Based & Community Initiatives (http://www.dol.gov/cfbci) is a valuable source of background on this initiative. America's Service Locator (http://www.servicelocator.org) provides a directory of our nation's One-Stop Career Centers. The National Association of Workforce Boards maintains a webpage (http://www.nawb.org/asp/wibdir.asp), which contains contact information for the State and local Workforce Investment boards. Applicants are encouraged to review “Understanding the Department of Labor Solicitation for Grant Applications and How to Write an Effective Proposal” (http://www/dol.gov/cfbci/sgabrochure.htm). “Questions and Answers” regarding this solicitation will be posted and updated on the web (http://www.doleta.gov/usworkforce). For a basic understanding of the grants process and basic responsibilities of receiving Federal grant support, please see “Guidance for Faith-Based and Community Organizations on Partnering with the Federal Government” (http://www.fbci.gov).

Signed at Washington, DC, this 1st day of April, 2003.
James W. Stockton,
Grant Officer.

Attachments:

Appendix A: SF-424A—Application for Federal Assistance

Appendix B: Budget Form

Appendix C: Survey on Ensuring Equal Opportunity for Applicants

Appendix D: Checklist (whether the applicant is a Faith-Based organization or a Community-Based organization)

BILLING CODE 4510-30-P

[FR Doc. 03-8228 Filed 4-3-03; 8:45 am]

BILLING CODE 4510-30-C